DEPARTMENT OF ENERGY

Environmental Management Advisory Board; Meeting

AGENCY: Department of Energy

ACTION: Notice of open meeting.

SUMMARY: This notice announces a meeting of the Alternative Technologies to Incineration Committee (ATIC) of the Environmental Management Advisory Board (EMAB). The EMAB is a Federal Advisory Committee act (FACA) entity.

DATES: Tuesday, September 25, 2001 and Wednesday, September 26, 2001.

ADDRESSES: U.S. Department of Energy, Forrestal Building, 1000 Independence Avenues, SW., (Room 6A-092), Washington, DC 20585.

FOR FURTHER INFORMATION CONTACT: James T. Melillo, Executive Director of the Environmental Management Advisory Board, (EM-10), 1000 Independence Avenue SW., (Room 5B-171), Washington, DC 20585. The telephone number is 202-586-4400. The Internet address is james.melillo@em.doe.gov.

SUPPLEMENTARY INFORMATION: The purpose of the Board is to provide the Assistant Secretary for Environmental Management (EM) with advice and recommendations on issues confronting the Environmental Management Advisory Program from the perspective of affected groups, as well as state, local, and tribal governments. The Board will contribute to the effective operation of the Environmental Management Advisory Program by providing individual citizens and representatives of interested groups an opportunity to present their views on issues facing EM and by helping to secure consensus recommendations on those issues. The ATIC will examine emerging candidate technologies identified by the Department for treatment for disposal of mixed transuranic (TRU) and low-level wastes previously scheduled for incineration at the Idaho National Engineering and Environmental Laboratory (INEEL). The Department is identifying these technologies through implementation of its technology Research Development Deployment & Demonstration (RDD&D) plan. The ATIC will facilitate stakeholder comment and communications on issues related to emerging alternative technologies to incineration for the treatment of mixed TRU and low-level wastes.

Preliminary Agenda

Tuesday, September 25, 2001

8:30 a.m.—Welcome and Introductions

—Introductory Comments

—Approval of Minutes from 6/13/01 Meeting

—Remarks-Office of Science and Techonology

—The EM-50 Science and Technology Work Plan Initiatives

—Status of Development Efforts for Technologies Identified by the Blue Ribbon Panel

—Regulatory Initiatives for WIPP

—Public Comment Period

5:00 p.m.—Summary and Closing Comments

Wednesday, September 26, 2001

8:30 a.m.—Introductory Comments

The Stakeholder Forum

—Q&A Session and Summary Comments

—Committee Work Session

—Public Comment Period

4:00 p.m.—Adjournment

Public Participation

This meeting is open to the public. If you would like to file a written statement with the Committee you may do so either before or after the meeting. If you would like to make an oral statement regarding any of the items on the agenda, please contact Mr. Melillo at the address and telephone number listed above, or call the Environmental Management Advisory Board office at 202-586-4400, and we will reserve time for you on the agenda. You may also register to speak at the meeting on September 25-26, 2001, or ask to speak during the public comment period. Those who call in and or register in advance will be given the opportunity to speak first.

Others will be accommodated as time permits. The Board Chair will conduct the meeting in an orderly manner.

Minutes

We will make the minutes of the meeting available for public review and copying by November 25, 2001. The minutes and transcript of the meeting will be available for viewing at the Freedom of Information Public Reading Room (1E-190) in the Forrestal Building, U.S. Department of Energy, 1000 Independence Avenue, SW., Washington, DC 20585. The room is open Monday through Friday from 9:00 a.m.-4:00 p.m. except on Federal holidays.

Issued in Washington, DC on August 29, 2001.
Belinda Hood,
Acting Deputy Advisory Committee Management Officer.

[FR Doc. 01-22233 Filed 9-4-01; 8:45 am]

BILLING CODE 6450-01-P